DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 4, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Patient Survey-Health Centers OMB No. 0915-0368—New.

Abstract: HRSA's Health Center Program awards grants to provide primary and preventive health care services to medically underserved and vulnerable populations. The proposed Health Center Patient Survey (HCPS) will collect national, in-depth information about health center patients, their health status, the reasons they seek care at the health centers, their diagnoses, the services they utilize at health centers and elsewhere, the quality of those services, and their satisfaction with the care they receive through personal interviews of a stratified random sample of health center patients. Interviews conducted in the national study are estimated to take approximately 1 hour and 15 minutes each.

The HCPS builds on previous periodic Patient User-Visit Surveys which were conducted to learn about the process and outcomes of care in health centers reaching goals under the Health Center Program. The original questionnaires were derived from the National Health Interview Survey (NHIS) and the National Ambulatory Medical Care Survey (NAMCS) conducted by the National Center for Health Statistics (NCHS). Conformance with the NHIS and NAMCS allowed comparisons between these NCHS surveys and the previous Patient User-Visit Surveys. The new HCPS was developed using a questionnaire methodology similar to that used in the past, and will also potentially allow some time-trend comparisons for health centers with the previous Patient User-Visit Survey data, including monitoring of processes and outcomes over time. In addition, this survey will be conducted in languages not used during previous surveys (English and Spanish) to include patients from different racial and ethnic backgrounds, including Chinese (Mandarin and Cantonese), Korean, and Vietnamese. With the exception of Spanish speakers, other racial and ethnic subgroups were not able to participate in the previous surveys.

Need and Proposed Use of the Information: The HCPS is unique in its effort to capture national, person-level data from patients of all types of Health Center Program grantees. The data collected from the HCPS will be used to:

• Gather nationally representative data about the patients of the programs and the services they obtain;

• enable comparisons of care received by health center patients with care received by the general population, as measured by NHIS and other national surveys;

• assess how well HRSA-supported health centers are currently able to meet health care needs;

• identify areas for improvement and guide planning decisions; and

• complement data that are not routinely collected from other Bureau of Primary Health Care data sources.

The specific priorities for analysis will be comparisons of health center patients with patients served in other primary care settings with respect to:

• Access to care;

• health disparities;

• health conditions;

• quality of care;

• care coordination; and

• patient experience.

Comparisons will be made with results from national surveys and with results from the 2009 Patient Survey.

Likely Respondents: Health center patients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Patient Screening | 6,996 | 1 | 6,996 | .17 | 1,189
Patient Survey | 6,600 | 1 | 6,600 | 1.25 | 8,250
Total National Study | 6,996 | 1 | 13,596 | 1.42 | 9,439

Dated: April 25, 2014.
Jackie Painter,
Deputy Director, Division of Policy and Information Coordination.

[FR Doc. 2014-10191 Filed 5-2-14; 8:45 am]

BILLING CODE 4165-15-P